DEPARTMENT OF THE INTERIOR

National Park Service

[NPS-NCR-CHOH-0910-5821; 3101-241A-726]

Notification of Boundary Revision

AGENCY: National Park Service, Interior.

ACTION: Notification of boundary revision.

SUMMARY: Notice is hereby given that the boundary of the Chesapeake and Ohio Canal National Historical Park (Park) in Washington County, Maryland, is modified to include one (1) tract of land adjacent to the park. This revision is made to include privately-owned property that the National Park Service (NPS) wishes to acquire. The NPS has determined that the inclusion of this tract within the Park's boundary will make significant contributions to the purposes for which the Park was established. After the United States' acquisition of the tract, the NPS will manage the property in accordance with applicable law.

FOR FURTHER INFORMATION CONTACT: Superintendent, Chesapeake and Ohio Canal National Historical Park, 1850 Dual Highway, Suite 100, Hagerstown, Maryland 21740 or Chief, Land Resources Program Center, National Capital Region, 1100 Ohio Drive, SW., Washington, DC 20242.

DATES: The effective date of this boundary revision is the date of publication in the Federal Register.

SUPPLEMENTARY INFORMATION: Public Law 91-664, enacted January 8, 1971, authorizes the acquisition of certain lands for the Chesapeake and Ohio Canal National Historical Park. Section 7(c) of the Land and Water Conservation Fund Act, as amended by Public Law 104-333, authorizes minor boundary revisions to areas within the National Park System. Such boundary revisions may be made, when necessary, after advising the appropriate congressional committees, and following publication of a revised boundary map, drawing or other boundary description in the Federal Register. In order to properly interpret and preserve the historic character of the Park, it is necessary to revise the existing boundary to include one (1) additional tract of land comprising 3.75 acres of unimproved land.

Notice is hereby given that the exterior boundary of the Park is hereby revised to include one (1) additional tract of land identified as Tract 43-124. The parcel is a portion of the same land acquired by American Legion Post 202 by deed dated June 5, 1989, and recorded in Deed Book 01012, Page 00216, in the Land Records of Washington County, Maryland, subject to existing easements for public roads and highways, public utilities, railroads and pipelines.

This tract of land is depicted on Segment Map 43, identified as Tract 43-124, dated June 1971. The map is on file and available for inspection in the Land Resources Program Center, National Capital Region, 1100 Ohio Drive, SW., Washington, DC 20242.

Dated: July 29, 2010.
Peggy O'Dell,
Regional Director, National Capital Region.

Editorial Note: This document was received at the Office of the Federal Register April 21, 2011.

[FR Doc. 2011-10039 Filed 4-25-11; 8:45 am]

BILLING CODE 4310-6V-P